FEDERAL RESERVE SYSTEM

Sunshine Act Meeting

Agency Holding Meeting: Board of Governors of the Federal Reserve System.

Time and Date: 10 a.m., Thursday, December 21, 2000.

Place: Marriner S. Eccles Federal Reserve Board Building, C Street entrance between 20th and 21st Streets, NW., Washington, DC 20551.

Status: Open.

Matters to be Considered: Summary Agenda: Because of their routine nature, no discussion of the following items is anticipated. These matters will be voted on without discussion unless a member of the Board requests that an item be moved to the discussion agenda.

1. Consideration of final rules under Regulation Y (Bank Holding Companies and Change in Bank Control) that implement the Gramm-Leach-Bliley Act by (a) providing procedures for eligible domestic organizations to elect to become financial holding companies (Docket No. R-1057); and (b) describing activities that are permissible for financial holding companies and providing procedures for conducting these activities (Docket No. R-1062). These rules revise and replace interim rules that were published for comment earlier this year.

2. Consideration of a proposal for comment to amend Regulation Y (Bank Holding Companies and Change in Bank Control), pursuant to section 4(k)(5) of the Bank Holding Company Act as amended by the Gramm-Leach-Bliley Act, to designate three categories of activities as permissible for financial holding companies and to provide procedures for determining that particular activities are included within the proposed categories.

3. Publication for comment of proposed modifications to the methodology for calculating the Private Sector Adjustment Factor.

4. Discussion Agenda: Proposed new Regulation G (Disclosure and Reporting of CRA-Related Agreements) to implement the Community Reinvestment Act sunshine requirements of the Gramm-Leach-Bliley Act (proposed earlier for public comment; Docket No. R-1069).

5. Any items carried forward from a previously announced meeting.

Note: This meeting will be recorded for the benefit of those unable to attend. Cassettes will then be available for listening in the Board's Freedom of Information Office, and copies can be ordered for $6 per cassette by calling 202-452-3684 or by writing to: Freedom of Information Office, Board of Governors of the Federal Reserve System Washington, D.C. 20551.

Contact Person for More Information: Lynn S. Fox, Assistant to the Board; 202-452-3204.

SUPPLEMENTARY INFORMATION: You may call 202-452-3206 for a recorded announcement of this meeting; or you may contact the Board's Web site at http://www.federalreserve.gov for an electronic announcement. (The Web site also includes procedural and other information about the open meeting.)

Dated: December 14, 2000.
Robert deV. Frierson,
Associate Secretary of the Board.

[FR Doc. 00-32369 Filed 12-15-00; 11:26 am]

BILLING CODE 6210-01-P